DEPARTMENT OF HEALTH AND HUMAN SERVICES

Centers for Disease Control and Prevention

Disease, Disability, and Injury Prevention and Control Special Emphasis Panels: Prevention of the Complications of Bleeding Disorders Through Hemophilia Treatment Centers, Request for Applications (RFA) DD06-005

In accordance with section 10(a)(2) of the Federal Advisory Committee Act (Pub. L. 92-463), the Centers for Disease Control and Prevention (CDC) announces the following meeting:

Name: Disease, Disability, and Injury Prevention and Control Special Emphasis Panel: Prevention of the Complications of Bleeding Disorders through Hemophilia Treatment Centers, RFA DD06-005.

Time and Date: 8 a.m.-5 p.m., June 28, 2006 (Closed).

Place: Centers for Disease Control and Prevention, 1600 Clifton Road, NE., Building 19, Room 256/257, Atlanta, GA 30333.

Status: The meeting will be closed to the public in accordance with provisions set forth in section 552b(c)(4) and (6), Title 5 U.S.C., and the Determination of the Director, Management Analysis and Services Office, CDC, pursuant to Public Law 92-463.

Matters To Be Discussed: To conduct expert review of scientific merit of research applications in response to RFA DD06-005, “Prevention of the Complications of Bleeding Disorders through Hemophilia Treatment Centers.”

For Further Information Contact:

Juliana Cyril, Ph.D., Scientific Review Administrator, Centers for Disease Control and Prevention, 1600 Clifton Road, NE., Mailstop D72, Atlanta, GA 30333, Telephone 404.639.4639.

The Director, Management Analysis and Services Office, has been delegated the authority to sign Federal Register notices pertaining to announcements of meetings and other committee management activities, for both CDC and the Agency for Toxic Substances and Disease Registry.

Dated: June 8, 2006.
Alvin Hall,
Director, Management Analysis and Services Office, Centers for Disease Control and Prevention.

[FR Doc. E6-9269 Filed 6-13-06; 8:45 am]

BILLING CODE 4163-18-P